DEPARTMENT OF LABOR

Employment and Training Administration

[TA-W-37,801]

Kountry Kreations Towanda, PA; Notice of Termination of Investigation

Pursuant to section 221 of the Trade Act of 1974, an investigation was initiated on June 19, 2000, in response to a worker petition which was filed on behalf of workers at Kountry Kreations, Towanda, Pennsylvania.

On August 17, 2000, the petitioner requested that her petition be withdrawn. Consequently, further investigation in this case would serve no purpose, and the investigation has been terminated.

Signed at Washington, DC, this 23rd day of August 2000.
Grant D. Beale,
Program Manager, Division of Trade Adjustment Assistance.

[FR Doc. 00-23507 Filed 9-12-00 8:45 am]

BILLING CODE 4510-30-M